INTERNATIONAL TRADE COMMISSION

[Investigations Nos. 731-TA-308-310, 520, and 521 (Second Review)]

Carbon Steel Butt-Weld Pipe Fittings From Brazil, China, Japan, Taiwan, and Thailand

Determinations

On the basis of the record ¹ developed in these subject five-year reviews, the United States International Trade Commission (Commission) determines,² pursuant to section 751(c) of the Tariff Act of 1930 (19 U.S.C. 1675(c)) (the Act), that revocation of the antidumping duty orders on carbon steel butt-weld pipe fittings from Brazil, China, Japan, Taiwan, and Thailand would be likely to lead to continuation or recurrence of material injury to an industry in the United States within a reasonably foreseeable time.

¹ The record is defined in sec. 207.2(f) of the Commission's Rules of Practice and Procedure (19 CFR 207.2(f)).

² Commissioner Shara L. Aranoff did not participate in these reviews.

Background

The Commission instituted these reviews on December 1, 2004 (69 FR 69952) and determined on March 7, 2005 that it would conduct full reviews (70 FR 14713, March 23, 2005). Notice of the scheduling of the Commission's reviews and of a public hearing to be held in connection therewith was given by posting copies of the notice in the Office of the Secretary, U.S. International Trade Commission, Washington, DC, and by publishing the notice in the Federal Register on May 11, 2005 (70 FR 24838). The hearing was held in Washington, DC, on September 7, 2005, and all persons who requested the opportunity were permitted to appear in person or by counsel.

The Commission transmitted its determinations in these reviews to the Secretary of Commerce on October 31, 2005. The views of the Commission are contained in USITC Publication 3809 (October 2005), entitled Carbon Steel Butt-Weld Pipe Fittings from Brazil, China, Japan, Taiwan, and Thailand: Investigation Nos. 731-TA-308-310, 520, and 521 (Second Review).

By order of the Commission.
Issued: October 31, 2005.
Marilyn R. Abbott,
Secretary to the Commission.

[FR Doc. 05-21948 Filed 11-2-05; 8:45 am]

BILLING CODE 7020-02-P